DEPARTMENT OF TRANSPORTATION

Coast Guard

33 CFR Part 166

[CGD 08-00-012]

RIN 2115-AG02

Shipping Safety Fairways and Anchorage Areas, Gulf of Mexico

AGENCY: Coast Guard, DOT.

ACTION: Final rule.

SUMMARY: The Coast Guard is creating a new anchorage area on the eastern side of the Sabine Pass Safety Fairway, opposite the Sabine Bank Offshore (North) Anchorage area in the Gulf of Mexico south of Sabine Pass. This will help alleviate the need for in-bound deep draft vessels to cross the Sabine Pass Safety Fairway and navigate around a charted shallow area just to the southeast of the North anchorage. This rule allows deep draft vessels to enter and depart Sabine Bank anchorages on a safer, lower risk course.

DATES: This final rule is effective January 29, 2001.

ADDRESSES: Comments and material received from the public, as well as documents mentioned in this preamble as being available in the docket, are part of docket CGD 08-00-012 and are available for inspection or copying at the Coast Guard Marine Safety Office, Federal Building, 2875 Jimmy Johnson Blvd., Port Arthur, TX 77640-2099 between 8 a.m. and 4 p.m., Monday through Friday, except Federal holidays.

FOR FURTHER INFORMATION CONTACT: If you have questions on this rule or on viewing the docket, call Lieutenant Lamont Bazemore, Waterways Management, Coast Guard Marine Safety Office Port Arthur, telephone 409-723-6509 ext. 243.

SUPPLEMENTARY INFORMATION:

Regulatory History

On June 21, 2000, we published a notice of proposed rulemaking entitled “Anchorage Regulation; Sabine Pass, TX, Gulf of Mexico” in the Federal Register (65 FR 38474). We received no letters commenting on the proposed rule. No public hearing was requested and none was held. For the Semi-Annual Agenda, we changed the RIN and title of this rule to “Shipping Safety Fairways and Anchorage Areas, Gulf of Mexico, 2115-AG02”, to correctly reflect the CFR part that we are affecting.

Background and Purpose

In 1997, the in-bound tank vessel CROSBY ran aground just outside the Sabine Bank Offshore (North) Anchorage area located in the Gulf of Mexico, approximately 13 miles south of Sabine Pass, TX. This vessel was carrying over 650,000 barrels of crude oil. Although no oil was spilled, the result could have been disastrous.

The subsequent investigation revealed that the vessel's master crossed the safety fairway and attempted to navigate into the North anchorage. However, a strong westerly current pushed the CROSBY toward the shallow area southeast of the anchorage area. The master was unable to maneuver away from the shallows and the vessel grounded. Four tugboats took 15 hours to refloat the CROSBY.

In-bound petroleum laden deep draft vessels invariably have a need to anchor and wait for daylight transit. The new anchorage east of the Sabine Bank Offshore (North) Anchorage eliminates the need for these vessels to cross the safety fairway and navigate the surrounding shallow areas to reach anchorage. The new anchorage is also free of shallow areas immediately surrounding it. This significantly reduces navigational risks to in-bound deep draft vessels.

Discussion of Comments and Changes

No comments were received regarding the notice of proposed rulemaking and no changes were made.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, l979). We expect the economic impact of this rule to be so minimal that a full Regulatory Evaluation under paragraph 10e of the regulatory policies and procedures of DOT is unnecessary.

There are no fees, permits, or specialized requirements for the maritime industry to utilize this anchorage area. Use of the Sabine Bank Offshore (East) Anchorage Area is voluntary. This regulation is solely for the purpose of advancing safety of maritime commerce.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

Since there are no fees, permits, or specialized requirements for the maritime industry to utilize this anchorage, and the use of the anchorage is voluntary, the Coast Guard certifies under 5 U.S.C. 605(b) that this final rule will not have a significant economic impact on a substantial number of small entities.

Assistance for Small Entities

Under section 213(a) of the Small Business Regulatory Enforcement Fairness Act of 1996 (Public Law 104-121), we offered to assist small entities in understanding the rule so that they could better evaluate its effects on them and participate in the rulemaking. No assistance was requested or provided.

Collection of Information

This rule calls for no new collection of information under the Paperwork Reduction Act of 1995 (44 U.S.C. 3501-3520).

Federalism

We have analyzed this rule under Executive Order 13132, Federalism, and have determined that it does not have implications for federalism under that Order.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

We considered the environmental impact of this rule and concluded that, under figure 2-1, paragraph (34)(f), of Commandant Instruction M16475.lC, this rule is categorically excluded from further environmental documentation. Implementation of this action will not result in any—

• Significant cumulative impacts on the human environment;

• Substantial controversy or substantial change to existing environmental conditions;

• Impacts which are more than minimal on properties protected under 4(f) of the DOT Act as superceded by Public Law 97-449, and Section 106 of the National Historic Preservation Act; and

• Inconsistencies with any Federal, State, or local laws or administrative determinations relating to the environment.

A “Categorical Exclusion Determination” is available in the docket where indicated under ADDRESSES.

List of Subjects in 33 CFR Part 166

Anchorage grounds, Marine Safety, Navigation (water), Waterways.

For the reasons discussed in the preamble, the Coast Guard amends 33 CFR part 166 as follows:

PART 166—SHIPPING SAFETY FAIRWAYS

1. The authority citation for part 166 continues to read as follows:

Authority: 33 U.S.C. 1223; 49 CFR 1.46.

2. In § 166.200, add paragraph (d)(13)(iv) to read as follows:

§ 166.200 Shipping safety fairways and anchorage areas, Gulf of Mexico.

* * * * *

(d) * * *

(13) * * *

(iv) Sabine Bank Offshore (East) Anchorage Area. The area enclosed by rhumb lines joining points at:

Latitude | Longitude
29°26′06″ N | 93°38′52″ W.
29°26′06″ N | 93°37′00″ W.
29°24′06″ N | 93°37′00″ W.
29°24′06″ N | 93°38′52″ W.

* * * * *

Dated: 14 December 2000.
Paul J. Pluta,
RADM, U.S. Coast Guard, Commander, Eighth Coast Guard District.

[FR Doc. 00-33078 Filed 12-27-00; 8:45 am]

BILLING CODE 4910-15-P